DEPARTMENT OF THE INTERIOR

Fish and Wildlife Service

Notice of Receipt of Applications for Permit

Endangered Species

The following applicants have applied for a permit to conduct certain activities with endangered species. This notice is provided pursuant to section 10(c) of the Endangered Species Act of 1973, as amended (16 U.S.C. 1531, et seq.):

Applicant: Richard P. Rechter, Bloomington, IN, PRT-034428.

The applicant requests a permit to import the sport-hunted trophy of one male bontebok (Damaliscus pygargus dorcas) culled from a captive herd maintained under the management program of the Republic of South Africa, for the purpose of enhancement of the survival of the species.

Applicant: Chicago Zoological Park, Brookfield Zoo, Brookfield, IL PRT-805165.

The applicant requests a permit to import blood and fecal samples from the following animals: Black rhinoceros (Diceros bicornis), African wild dog (Lycaon pictus), and cheetah (Acinonyx jabatus). Samples are being collected by the Ministry of Environment and Tourism, Windhoek, Namibia and will be imported for the purpose of scientific research. This notice covers activities under this permit for a period of five years. Permit subject to annual renewal.

Applicant: Samuel F. La Porte, Glendora, CA, PRT-034374.

The applicant requests a permit to import the sport-hunted trophy of one male bontebok (Damaliscus pygargus dorcas) culled from a captive herd maintained under the management program of the Republic of South Africa, for the purpose of enhancement of the survival of the species.

Applicant: Coronas Entertainment, Bradenton, FL, PRT-023228.

The applicant requests an amendment to their initial request published April 25, 2000, in Vol. 65, No. 80 to export and re-import African leopard, and progeny of the animals currently held by the applicant and any animals acquired in the United States by the applicant to/from worldwide locations to enhance the survival of the species through conservation education. The applicant would like to amend the permit to include captive born tigers (Panthera tigris).

Applicant: Betty Young dba Riverglen Feline Conservation Park, West Fork, AK, PRT-824228.

On October 6, 2000, the U.S. Fish and Wildlife Service (Service) re-issued PRT-824228 to Betty J. Young dba Riverglen Feline Conservation Park, Mountainburg, Arkansas for the re-import of their tiger (Panthera tigris) “Adonis” from Aruba. The 30-day public comment period required by section 10(c) of the Endangered Species Act was waived. The Service determined that an emergency affecting the care and health of the tiger existed and that no reasonable alternative was available to the applicant.

Marine Mammals

The public is invited to comment on the following application for a permit to conduct certain activities with marine mammals. The application was submitted to satisfy requirements of the Marine Mammal Protection Act of 1972, as amended (16 U.S.C. 1361 et seq.) and the regulations governing marine mammals (50 CFR part 18).

Applicant: Monterey Bay Aquarium, Monterey, California, PRT-032027.

Permit Type: Take for scientific research and enhancement.

Name and Number of Animals: Southern Sea Otter (Enhydra lutris nereis), up to 50 animals per year.

Summary of Activity To Be Authorized: The applicant requests a permit to rescue, provide medical treatment, instrument with telemetry equipment, release, relocate, re-capture for the purposes of rehabilitation, and conduct post-release monitoring and long-term health assessment of Southern sea otters to further the knowledge of the ecology, biology, and movements of these animals and enhance the survival of this species.

Source of Marine Mammals: The natural range of Southern sea otters.

Period of Activity: Up to 5 years, if issued.

Concurrent with the publication of this notice in the Federal Register, the Division of Management Authority is forwarding copies of these applications to the Marine Mammal Commission and the Committee of Scientific Advisors for their review.

Written data or comments should be submitted to the Director, U.S. Fish and Wildlife Service, Division of Management Authority, 4401 North Fairfax Drive, Room 700, Arlington, Virginia 22203 and must be received by the Director within 30 days of the date of this publication.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: October 6, 2000.
Charlie Chandler,
Chief, Branch of Permits, Division of Management Authority.

[FR Doc. 00-26355 Filed 10-12-00; 8:45 am]

BILLING CODE 4310-55-U